DEPARTMENT OF STATE

[Public Notice:12841; No. 2025-04]

Determination Pursuant to the Foreign Missions Act

Pursuant to the authority vested in the Secretary of State under the Foreign Missions Act, 22 U.S.C. 4301 et seq. (“the Act”), and delegated pursuant to Department of State Delegation of Authority No. 214 of September 20, 1994, I hereby determine it is reasonably necessary to achieve one or more of the purposes set forth in section 204(b) of the Act (22 U.S.C. 4304(b)) to require the Chairman of the Transitional Sovereignty Council of Sudan, General Abdel Fattah al-Burhan, and the accompanying members of the delegation of the Government of Sudan to obtain approval from the Department of State's Office of Foreign Missions prior to any travel beyond a radius of 25 miles from Columbus Circle in New York City when they travel for the 80th Session of the UN General Assembly (UNGA 80) in September 2025 and to comply with any other requirements as may be established by the Director or Deputy Director of the Office of Foreign Missions with respect to geographical limitations on travel within the United States. This requirement will remain in place for the duration that General Burhan and the Sudanese delegation are in the United States for the UNGA 80 High-Level Week in September 2025.

Clifton C. Seagroves,
Acting Director, Office of Foreign Missions, U.S. Department of State.

[FR Doc. 2025-19081 Filed 9-30-25; 8:45 am]

BILLING CODE 4711-07-P